DEPARTMENT OF COMMERCE

National Oceanic and Atmospheric Administration

RIN 0648-XA874

Marine Mammals; File No. 15240

AGENCY: National Marine Fisheries Service (NMFS), National Oceanic and Atmospheric Administration (NOAA), Commerce.

ACTION: Notice; receipt of application.

SUMMARY: Notice is hereby given that the NMFS Pacific Islands Fisheries Science Center (PIFSC), 2570 Dole Street, Honolulu, Hawaii 96822 (Responsible Party: Frank A. Parrish, Ph.D.), has applied in due form for a permit to conduct research on cetaceans.

DATES: Written, telefaxed, or email comments must be received on or before January 19, 2012.

ADDRESSES: The application and related documents are available for review by selecting “Records Open for Public Comment” from the Features box on the Applications and Permits for Protected Species (APPS) home page, https://apps.nmfs.noaa.gov, and then selecting File No. 15240 from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941;

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Laura Morse, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The PIFSC is requesting a five-year permit to conduct research on 20 cetacean species, including six species listed as endangered [blue (Balaenoptera musculus), fin (B. physalus), sei (B. borealis), humpback (Megaptera novaeangliae), sperm (Physeter macrocephalus), and North Pacific right (Eubalaena japonica) whales] and one stock proposed to be listed as endangered, Hawaiian insular false killer whales (Pseudorca crassidens). Takes would also be authorized for five categories of unidentified cetaceans (dolphins, beaked whales, Mesoplodon spp., rorquals, and Kogia spp.). Endangered Hawaiian monk seals (Monachus schauinslandi) may be harassed incidental to the cetacean research. The purpose of the research is to determine the abundance, distribution, stock structure, movement patterns, and ecological relationships of cetaceans occurring in U.S. and international waters of the Pacific Islands Region. The action area includes places such as Hawaii, Palmyra, American Samoa, Guam, the Commonwealth of the Northern Mariana Islands, Johnston Atoll, Kingman Reef, Howland Island, Baker Island, Jarvis Island, and Wake Island. Research methodologies include aerial and vessel surveys, behavioral observations, photo-identification, acoustic recordings, biological sample collection, and dart and suction cup tagging. Salvage and import/export of cetacean parts, specimens, and biological samples would also occur.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: December 14, 2011.
P. Michael Payne,
Chief, Permits and Conservation Division, Office of Protected Resources, National Marine Fisheries Service.

[FR Doc. 2011-32538 Filed 12-19-11; 8:45 am]

BILLING CODE 3510-22-P